Title 3—

The President

Proclamation 8981 of May 17, 2013

National Safe Boating Week, 2013

By the President of the United States of America

A Proclamation

Every year, the United States Coast Guard joins partners nationwide to raise awareness about boating responsibly. We highlight that important work during National Safe Boating Week, and we encourage all boaters to take appropriate precautions before casting off this season.

Safe boating starts onshore. Americans planning to spend a day on the water should prepare by filing a float plan with family or a friend, getting a free vessel safety check, and participating in a boating safety course. As they embark, boaters should make sure they have checked the marine forecast and all passengers are wearing a life jacket. And to put an end to preventable accidents that claim too many lives every year, individuals should never operate a boat under the influence of drugs or alcohol.

Boating is an important part of our national heritage. This week, let us carry that tradition forward by following commonsense safety procedures and keeping our lakes, rivers, and oceans safe for all to enjoy.

In recognition of the importance of safe boating practices, the Congress, by joint resolution approved June 4, 1958 (36 U.S.C. 131), as amended, has authorized and requested the President to proclaim annually the 7-day period prior to Memorial Day weekend as “National Safe Boating Week.”

NOW, THEREFORE, I, BARACK OBAMA, President of the United States of America, do hereby proclaim May 18 through May 24, 2013, as National Safe Boating Week. I encourage all Americans who participate in boating activities to observe this occasion by learning more about safe boating practices and taking advantage of boating education.

IN WITNESS WHEREOF, I have hereunto set my hand this seventeenth day of May, in the year of our Lord two thousand thirteen, and of the Independence of the United States of America the two hundred and thirty-seventh.

[FR Doc. 2013-12399

Filed 5-21-13; 11:15 am]

Billing code 3295-F3